COMMISSION ON CIVIL RIGHTS

Notice of Public Meeting of the California Advisory Committee

AGENCY: U.S. Commission on Civil Rights.

ACTION: Announcement of meeting.

SUMMARY: Notice is hereby given, pursuant to the provisions of the rules and regulations of the U.S. Commission on Civil Rights (Commission) and the Federal Advisory Committee Act (FACA) that a briefing of the California Advisory Committee (Committee) to the Commission will be held from 9:00 a.m.-5:00 p.m. (Pacific Time) Wednesday, October 16, 2019. The purpose of the briefing is to receive testimony from diverse stakeholders regarding federal immigration enforcement impacting California children. The Committee will examine the impact of ICE enforcement practices on access to public education for California K-12 students; access to equal protection under the law for individuals based on their perceived national origin; and the extent to which due process is afforded to K-12 students and their families.

DATES: The briefing will be held on Wednesday, October 16, 2019 from 9:00 a.m.-5:00 p.m. PT.

ADDRESSES: Los Angeles Public Library, Mark Taper Auditorium, 630 West Fifth Street, Los Angeles, CA 90071.

FOR FURTHER INFORMATION CONTACT: Ana Victoria Fortes (DFO) at afortes@usccr.gov or (213) 894-3437.

SUPPLEMENTARY INFORMATION: Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed Ana Victoria Fortes at afortes@usccr.gov. Persons who desire additional information may contact the Regional Programs Unit at (213) 894-3437.

Records and documents discussed during the meeting will be available for public viewing prior to and after the meetings at https://www.facadatabase.gov/FACA/FACAPublicViewCommitteeDetails?id=a10t0000001gzkUAAQ.

Please click on the “Committee Meetings” tab. Records generated from these meetings may also be inspected and reproduced at the Regional Programs Unit, as they become available, both before and after the meetings. Persons interested in the work of this Committee are directed to the Commission's website, https://www.usccr.gov, or may contact the Regional Programs Unit at the above email or street address.

Agenda

I. Welcome

II. Panel Presentations

III. AM Open Comment Session

IV. Panel Presentations

V. PM Open Comment Session

VI. Adjournment

Dated: September 5, 2019.
David Mussatt,
Supervisory Chief, Regional Programs Unit.

[FR Doc. 2019-19585 Filed 9-10-19; 8:45 am]

BILLING CODE 6335-01-P